DEPARTMENT OF COMMERCE

International Trade Administration

[A-588-857]

Final Results of Changed Circumstances Review: Certain Welded Large Diameter Line Pipe from Japan

AGENCY: Import Administration, International Trade Administration, Department of Commerce.

SUMMARY: On September 15, 2006, the Department of Commerce (“the Department”) published the preliminary results of the antidumping duty changed circumstances review and notice to revoke in part the order on welded large diameter line pipe from Japan (“LDLP”) with respect to certain welded large diameter line pipe as described below. See Preliminary Results of the Antidumping Duty Changed Circumstances Review and Notice of Intent to Revoke the Order in Part: Certain Welded Large Diameter Line Pipe from Japan, (71 FR 54471) (September 15, 2006) (“Preliminary Results”). In our Preliminary Results, we gave interested parties an opportunity to comment; however, we did not receive any comments from parties opposing the partial revocation of the order. Therefore, the Department hereby revokes this order with respect to all future entries for consumption of certain welded large diameter line pipe, as described below, effective on the date of publication of this Federal Register notice.

EFFECTIVE DATE: October 26, 2006.

FOR FURTHER INFORMATION CONTACT: Abdelali Elouaradia or Judy Lao, Import Administration, International Trade Administration, U.S. Department of Commerce, 14th Street and Constitution Avenue, NW, Washington, DC 20230; telephone: (202) 482-1374 and (202) 482-7924, respectively.

The Applicable Statute and Regulations

Unless otherwise indicated, all citations to the statute are references to the provisions effective January 1, 1995, the effective date of the amendments made to the Tariff Act of 1930, as amended (“the Act”), by the Uruguay Round Agreements Act. In addition, unless otherwise indicated, all citations to the Department's regulations are to the regulations as codified at 19 C.F.R. Part 351 (2002).

SUPPLEMENTARY INFORMATION:

Background

On December 6, 2001, the Department published in the Federal Register the antidumping duty order on certain welded large diameter line pipe from Japan. See Notice of Antidumping Duty Order: Certain Welded Large Diameter Line Pipe from Japan, 66 FR 63368 (December 6, 2001); see also Certain Welded Large Diameter Line Pipe From Japan: Final Results of Changed Circumstances Review, 67 FR 64870 (October 22, 2002), which revoked the order with respect to certain merchandise as described in the “Scope of the Order” section of this notice. On July 17, 2006, petitioners requested a changed circumstances review indicating they no longer have an interest in the following product being subject to the order: API grade X-80 having an outside diameter of 21 inches and wall thickness of 0.625 inch of more.

On August 14, 2006, the Department published the Initiation of Antidumping Duty Changed Circumstances Review: Certain Welded Large Diameter Line Pipe from Japan, 71 FR 46448 (August 14, 2006). In the notice, we indicated that interested parties could submit comments for consideration in the Department's preliminary results. We did not receive any comments. On September 15, 1006, the Department published the Preliminary Results. In the notice, we indicated that interested parties could submit comments for consideration in the Department's Final Results. We did not receive any comments.

Scope of Review

The product covered by this antidumping order is certain welded carbon and alloy line pipe, of circular cross section and with an outside diameter greater than 16 inches, but less than 64 inches, in diameter, whether or not stencilled. This product is normally produced according to American Petroleum Institute (API) specifications, including Grades A25, A, B, and X grades ranging from X42 to X80, but can also be produced to other specifications. The product currently is classified under U.S. Harmonized Tariff Schedule (HTSUS) item numbers 7305.11.10.30, 7305.11.10.60, 7305.11.50.00, 7305.12.10.30, 7305.12.10.60, 7305.12.50.00, 7305.19.10.30. 7305.19.10.60, and 7305.19.50.00. Although the HTSUS item numbers are provided for convenience and customs purposes, the written description of the scope is dispositive. Specifically not included within the scope of this investigation is American Water Works Association (AWWA) specification water and sewage pipe and the following size/grade combinations; of line pipe:

-Having an outside diameter greater than or equal to 18 inches and less than or equal to 22 inches, with a wall thickness measuring 0.750 inch or greater, regardless of grade.

-Having an outside diameter greater than or equal to 24 inches and less than 30 inches, with wall thickness measuring greater than 0.875 inches in grades A, B, and X42, with wall thickness measuring greater than 0.750 inches in grades X52 through X56, and with wall thickness measuring greater than 0.688 inches in grades X60 or greater.

-Having an outside diameter greater than or equal to 30 inches and less than 36 inches, with wall thickness measuring greater than 1.250 inches in grades A, B, and X42, with wall thickness measuring greater than 1.000 inches in grades X52 through X56, and with wall thickness measuring greater than 0.875 inches in grades X60 or greater.

-Having an outside diameter greater than or equal to 36 inches and less than 42 inches, with wall thickness measuring greater than 1.375 inches in grades A, B, and X42, with wall thickness measuring greater than 1.250 inches in grades X52 through X56, and with wall thickness measuring greater than 1.125 inches in grades X60 or greater.

-Having an outside diameter greater than or equal to 42 inches and less than 64 inches, with a wall thickness measuring greater than 1.500 inches in grades A, B, and X42, with wall thickness measuring greater than 1.375 inches in grades X52 through X56, and with wall thickness measuring greater than 1.250 inches in grades X60 or greater.

-Having an outside diameter equal to 48 inches, with a wall thickness measuring 1.0 inch or greater, in grades X-80 or greater.

-Having an outside diameter of 48 inches to and including 52 inches, and with a wall thickness of 0.90 inch or more in grade X-80.

-Having an outsides diameter of 48 inches to and including 52 inches, and with a wall thickness of 0.54 inch or more in grade X100.

Scope of Changed Circumstances Review

The products subject to this changed circumstances review is LDLP with an API grade X-80 having an outside diameter of 21 inches and wall thickness of 0.625 inch or more. See Letter from Petitioners to the Department dated July 17, 2006.

Pursuant to section 751(d)(1) of the Act, the Department may revoke an antidumping or countervailing duty order, in whole or in part, based on a review under section 751(b) of the Act (i.e., a changed circumstances review). Section 751(b)(1) of the Act requires a changed circumstances review to be conducted upon receipt of a request which shows changed circumstances sufficient to warrant a review. Section 351.222(g)(1) of the Department's regulations provides that the Department may revoke an order (in whole or in part) based on changed circumstances, if it determines that: (i) producers accounting for substantially all of the production of the domestic like product to which the order (or part of the order to be revoked) pertains have expressed a lack of interest in the relief provided by the order, in whole or in part, or (ii) if other changed circumstances sufficient to warrant revocation exist. Taking into consideration that (1) the petitioners have uniformly expressed that they do not want relief with respect to this particular sub-product, and that (2) there have been no contrary expressions from the remainder of the known domestic or U.S. LDLP producers, the Department is revoking the order on certain welded large diameter line pipe from Japan, effective on the date of publication of this notice in the Federal Register, with respect to all future entries for consumption of welded large diameter line pipe which meet the specifications detailed above, in accordance with sections 751(b) and (d) and 782(h) of the Act and 19 CFR 351.216. We will instruct U.S. Customs and Border Protection to terminate suspension of liquidation for all future entries of certain large diameter welded line pipe meeting the specifications indicated above.

This determination is issued and published in accordance with sections 751(b)(1) and 777(i)(1) of the Act, and 19 CFR 351.216 and 351.222.

Dated: October 20, 2006.
David M. Spooner,
Assistant Secretary for Import Administration.

[FR Doc. E6-17962 Filed 10-25-06; 8:45 am]

BILLING CODE 3510-DS-S